DEPARTMENT OF COMMERCE

International Trade Administration

University of Chicago, Notice of Decision on Application for Duty-Free Entry of Scientific Instrument

This is a decision pursuant to section 6(c) of the Educational, Scientific and Cultural Materials Importation Act of 1966 (Pub. L. 89-651, 80 Stat. 897; 15 CFR part 301). Related records can be viewed between 8:30 a.m. and 5:00 p.m. in Room 41006, U.S. Department of Commerce, 14th and Constitution Avenue NW, Washington, DC.

Docket Number: 23-018. Applicant: University of Chicago, 5640 S Ellis Avenue, ERC LL248, Chicago, IL 60637. Instrument: Fiber Laser Amplifier. Manufacturer: PreciLasers, People's Republic of China. Intended Use: See notice at 89 FR 3636, January 19, 2024. Date of Denial Without Prejudice to Resubmission: October 4, 2024. Decision: Denied. Applicant has failed to establish that domestic instruments of equivalent scientific value to the foreign instrument for the intended purposes are not available. Reasons: Section 301.5(e)(4) of the regulations requires the denial of applications that have been denied without prejudice to resubmission if they are not resubmitted within the specified time period. This is the case for the above-mentioned docket.

Dated: February 26, 2025.
Gregory W. Campbell,
Director, Subsidies and Economic Analysis, Enforcement & Compliance.

[FR Doc. 2025-03378 Filed 2-28-25; 8:45 am]

BILLING CODE 3510-DS-P